DEPARTMENT OF THE INTERIOR

Fish and Wildlife Service

[FWS-R3-R-2012-N069; FXRS1265030000S3-123-FF03R06000]

Big Stone National Wildlife Refuge, Big Stone and Lac Qui Parle Counties, MN

AGENCY: Fish and Wildlife Service, Interior.

ACTION: Notice of availability; request for comments.

SUMMARY: We, the U.S. Fish and Wildlife Service (Service), announce the availability of a draft comprehensive conservation plan (CCP) and environmental assessment (EA) for Big Stone National Wildlife Refuge (Refuge, NWR) for public review and comment. In this draft CCP/EA we describe how we propose to manage the refuge for the next 15 years.

DATES: To ensure consideration, we must receive your written comments by June 8, 2012. We will hold an open house-style meeting during the comment period to receive comments and provide information on the draft plan. In addition, we will use special mailings, newspaper articles, internet postings, and other media announcements to inform people of opportunities for input.

ADDRESSES: Send your comments or requests for more information by any one of the following methods:

• Email: r3planning@fws.gov. Include “Big Stone Draft CCP/EA” in the subject line of the message.

• Fax: Attention: Alice Hanley, 320-273-2231.

• U.S. Mail: Attention: Refuge Manager, Big Stone National Wildlife Refuge, 44843 County Road 19, Odessa, MN 56276.

• In-Person Drop Off: You may drop off comments during regular business hours at the above address.

You may also find information about the draft CCP/EA planning process on the planning Web site: http://www.fws.gov/midwest/Planning/BigStoneNWR/.

FOR FURTHER INFORMATION CONTACT: Alice Hanley, 320-273-2191.

SUPPLEMENTARY INFORMATION:

Introduction

With this notice, we continue the CCP process for Big Stone NWR, which we began by publishing a notice of intent in the Federal Register (73 FR 76677) on December 17, 2008. For more about the initial process and the history of this refuge, see that notice.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS, including Big Stone NWR, was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Refuge Overview

Big Stone NWR was established in 1975 when lands, purchased by the U.S. Army Corps of Engineers as part of the Big Stone Lake-Whetstone River Project authorized by the Flood Control Act of 1965, were transferred to the Service. Today the Refuge includes 11,586 acres and is managed for fish, wildlife, and their habitats.

CCP Alternatives and Our Preferred Alternative

Priority Issues

During the public scoping process, we, other stakeholders and partners, and the public identified several priority issues, which include habitat management, sedimentation, invasive species, and demand for additional recreation opportunities and visitor services. To address these issues, we developed and evaluated the following six alternatives during the planning process.

Alternative 1: Current Management/No Action

Alternative 1 is the No Action alternative, which means there would be no change from current management practices. Active management of Refuge habitats and visitor services would continue at present levels. Water movement and associated sediment delivery would continue to follow its current route through the Refuge, and the quality of riverine habitat would remain within its present range of conditions. There would be no change to the management capabilities of West Pool. Remnant prairie, restored grasslands, and prairie associated with granite outcrops would continue to be managed at present levels. The amount of partially restored grasslands would increase by 500 acres. The total area of nonnative grassland would decrease to 300 acres. Wildlife observation and photography, environmental education and interpretation, hunting, fishing, trapping, and gathering shed antlers and wild edible plants are recreational opportunities that would occur under this alternative if they meet the Service definition of compatibility. Refuge staff would continue to work with visitors and local communities and provide volunteer opportunities to build support for the Refuge.

Alternative 2

Under this alternative the natural alignment, channel capacity, and meander relationships would be restored to the upper 5 miles of the Minnesota River within the Refuge, and there would be an effort to improve water quality within the Minnesota River and its tributaries. Redistributing the timing and delivery of waters and sediment would improve the ability to increase, distribute, and diversify submerged vegetation within West Pool. Remnant prairie and prairie associated with granite outcrops would continue to be managed at present levels. The target acreage for restored grassland would be 1,100 acres, and for partially restored grasslands 1,200 acres. The amount of nonnative grassland would decrease by 500 acres. Wildlife observation and photography, environmental education and interpretation, hunting, fishing, trapping, and gathering wild edible plants are recreational opportunities that would occur under this alternative if they meet the Service definition of compatibility. Gathering of shed antlers would be discontinued. There would be increased outreach efforts to inform the public of existing Refuge access and recreational opportunities. Existing hunting opportunities would continue, and there would be added opportunities for youth and for hunters with disabilities. Fishing access and opportunities would increase beyond present levels. Refuge staff would continue to work with visitors and local communities to provide increased volunteer opportunities to build support for the Refuge.

Elements Common to Alternatives 3, 4, 5, and 6

The other four alternatives have a number of elements in common with Alternative 2. They are the same regarding Minnesota River restoration, water quality improvements, changes to West Pool, management of remnant prairie and prairie associated with granite outcrops, the range of recreational opportunities including elimination of shed antler gathering, fishing access and opportunities, and volunteer opportunities. The alternatives also differ in a number ways as indicated below.

Alternative 3

The target acreage for restored grassland would be 1,600 acres, and for partially restored grassland 500 acres. The amount of nonnative grassland would decrease by 300 acres. The amount of visitor access for wildlife observation and photography would increase. Existing hunting opportunities would continue but also be reviewed to determine the need for improvements to access, facilities, or opportunities. There would be additional hunting opportunities for youth and people with disabilities.

Alternative 4

The target acreage for restored grassland would be 1,600 acres, and for partially restored grassland 700 acres. The amount of nonnative grassland would decrease by 500 acres, 200 acres more than under Alternative 3. The amount of visitor access would remain at present levels, but there would be increased outreach efforts to inform the public of existing Refuge access and recreational opportunities. Existing hunting opportunities would continue. The amount of area open to hunting would remain the same, but hunting opportunities, access, and facilities would be reviewed to determine the need for improvements. There would be an emphasis on additional hunting opportunities for youth and people with disabilities.

Alternative 5

The target acreage for restored grassland would be 1,600 acres, and for partially restored grassland 700 acres. The amount of nonnative grassland would decrease by 500 acres. The amount of visitor access for wildlife observation and photography would increase. The amount of area open to hunting or the types of hunting permitted would increase above present levels without the emphasis described for Alternatives 2, 4, and 6.

Alternative 6 (Preferred Alternative)

The target acreage for restored grassland would be 1,600 acres, and for partially restored grassland 700 acres. The amount of nonnative grassland would decrease by 500 acres. The amount of visitor access would remain at present levels, but there would be increased outreach efforts to inform the public of existing Refuge access and recreational opportunities. Existing hunting opportunities would continue but also be reviewed to determine the need for improvements to access, facilities, or opportunities. There would be additional hunting opportunities for youth and people with disabilities.

Public Involvement

We will give the public an opportunity to provide input at a public meeting. You can obtain the schedule from the address or Web site listed in this notice (see ADDRESSES). You may also submit comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Charles M. Wooley,
Acting Regional Director, Midwest Region, U.S. Fish and Wildlife Service.

[FR Doc. 2012-11187 Filed 5-8-12; 8:45 am]

BILLING CODE 4310-55-P